DEPARTMENT OF COMMERCE

International Trade Administration

North Carolina State University; Notice of Decision on Application for Duty-Free Entry of Scientific Instrument

This decision is made pursuant to Section 6(c) of the Educational, Scientific, and Cultural Materials Importation Act of 1966 (Pub. L. 89-651, 80 Stat. 897; 15 CFR part 301). Related records can be viewed between 8:30 a.m. and 5 p.m. in Suite 4100W, U.S. Department of Commerce, Franklin Court Building, 1099 14th Street, NW., Washington, DC.

Docket Number: 03-015. Applicant: North Carolina State University, Raleigh, NC 27695-7212. Instrument: Electron Beam Melting Machine, Model EBM S12. Manufacturer: Arcam AB, Sweden. Intended Use: See notice at 68 FR 16472, April 4, 2003.

Comments: None received. Decision: Approved. No instrument of equivalent scientific value to the foreign instrument, for such purposes as it is intended to be used, is being manufactured in the United States. Reasons: The foreign instrument provides: (1) Melting or sintering of powdered materials with an electromagnetically controlled energy source, (2) maintaining the heat of a part during construction sufficiently to avoid thermally induced stress concentrations in the part and (3) fabrication in a vacuum to minimize porosities and impurities. Sandia National Laboratories advised May 13, 2003 that (1) these capabilities are pertinent to the applicant's intended purpose and (2) it knows of no domestic instrument or apparatus of equivalent scientific value to the foreign instrument for the applicant's intended use.

We know of no other instrument or apparatus of equivalent scientific value to the foreign instrument which is being manufactured in the United States.

Gerald A. Zerdy,
Program Manager, Statutory Import Programs Staff.

[FR Doc. 03-13026 Filed 5-22-03; 8:45 am]

BILLING CODE 3510-DS-P